NATIONAL AERONAUTICS AND SPACE ADMINISTRATION

[Notice 01-054]

Notice of Prospective Patent License

AGENCY: National Aeronautics and Space Administration.

ACTION: Notice of prospective patent license.

SUMMARY: NASA hereby gives notice that Advanced Cybernetics Group (ACG), of Cupertino, CA has applied for an exclusive license to practice the invention disclosed in U.S. Patent No. 5,774,669 entitled “Scalable Hierarchical Network Management System for Displaying Network Information in Three Dimensions” which is assigned to the United States of America as represented by the Administrator of the National Aeronautics and Space Administration. Written objections to the prospective grant of a license should be sent to Ames Research Center.

DATES: Responses to this notice must be received by June 29, 2001.

FOR FURTHER INFORMATION CONTACT: Robert Padilla, Chief Patent Counsel, NASA Ames Research Center, M/S 202A-3, Moffett Field, CA 94035-1000, telephone 650-604-5104.

Dated: April 23, 2001.
Edward A. Frankle,
General Counsel.

[FR Doc. 01-10614 Filed 4-27-01; 8:45 am]

BILLING CODE 7510-01-U